NATIONAL SCIENCE FOUNDATION

Agency Information Collection Activities: Proposed Collection; Comment Request

AGENCY: National Science Foundation.

ACTION: Notice.

SUMMARY: The National Science Foundation (NSF) is announcing plans to request establishment and clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by August 9, 2010 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Request for Clearance for Evaluation of the National Science Foundation's (NSF) Robert Noyce Teacher Scholarship (Noyce) Program.

Title of Collection: Evaluation of the Robert Noyce Teacher Scholarship Program.

OMB Control No.: 3145-(NEW)

Expiration Date of Approval: Not applicable.

Abstract: The National Science Foundation (NSF) requests a three-year clearance for research, evaluation and data collection (e.g., surveys and interviews) about the Noyce Program. NSF established the Robert Noyce Teacher Scholarship Program to encourage talented STEM majors and professionals to become K-12 mathematics and science teachers. The Noyce Program awards scholarships, stipends, fellowships and internships to support the preparation of K-12 teachers in mathematics and science. For specific details and the most updated information regarding Noyce program operations, please visit the NSF Web site at: http://www.nsf.gov/funding/pgm_summ.jsp?pims_id=5733.

The study will survey Principal Investigators of the Noyce Program, Science, Technology, Engineering, or Mathematics (STEM) Faculty involved in the Noyce Program, Noyce Recipients, and K-12 Principals in schools where former recipients are teaching. Noyce recipients may be undergraduates majoring in a science, technology, engineering, or mathematics (STEM) discipline; STEM post-baccalaureates; STEM professionals; or exemplary mathematics and science teachers, who have master's degrees. The Noyce program evaluation will include all awards made between 2003 and 2009.

NSF has contracted a program evaluation of the Noyce Program, to be conducted by Abt Associates Inc. Through this evaluation of the Noyce Program, NSF aims to examine and document:

(1) The strategies and programs Noyce grantees use to recruit and retain teacher candidates, both during teacher preparation and during the induction period;

(2) The institutional change occurring within STEM departments regarding the preparation of future mathematics and science teachers;

(3) The relationships between characteristics of the Noyce Program, types of Noyce recipients, characteristics of the schools in which Noyce recipients teach, and recipients' plans to teach in high-need schools and to pursue leadership roles; and

(4) The impacts of the Noyce program on teacher recruitment and retention and on teacher effectiveness.

The methods of data collection will include both primary and secondary data collections. Primary data collection will include surveys and telephone interviews; secondary data sources include open sources, records at NSF and grantee institutions, and state departments of education and teacher retirement funds. There is a bounded (or limited) number of respondents within the general public who will be affected by this research, including current and former Noyce grantees and associated faculty, STEM majors, post-baccalaureates, or professionals eligible who are supported by Noyce funding, and K-12 principals and district administrators. NSF will use the Noyce program evaluation data and analyses to provide information and/or respond to requests from Committees of Visitors (COV), Congress and the Office of Management and Budget, particularly as related to the Government Performance and Results Act (GPRA) and the Program Assessment Rating Tool (PART) or its replacement. NSF will also use the program evaluation to share the broader impacts of the Noyce program with the general public.

Respondents: Individuals, Federal Government, State, Local or Tribal Government and not-for-profit institutions.

Estimated Number of Respondents: 5,000.

Burden on the Public: 2,400 hours.

Dated: June 3, 2010.
Suzanne H. Plimpton,
Reports Clearance Officer, National Science Foundation.

[FR Doc. 2010-13774 Filed 6-7-10; 8:45 am]

BILLING CODE 7555-01-P